GENERAL SERVICES ADMINISTRATION

Privacy Act of 1974; Notice of Updated Systems of Records

AGENCY: General Services Administration.

ACTION: Notice.

SUMMARY: The General Services Administration (GSA) reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/PPFM-10

SYSTEM NAME:

Purchase Card Program.

SYSTEM LOCATION:

System records are maintained by the Office of Finance, General Services Administration (GSA), at 1800 F Street, NW., Washington, DC 20405, and by designated purchase card coordinators' offices in GSA regions. Contact the System Manager for additional information.

CATEGORIES OF INDIVIDUALS IN THE SYSTEM:

The system includes employees of GSA, and of independent offices and commissions serviced by GSA, who qualify to use Federal Government charge cards for making authorized purchases for official business.

CATEGORIES OF RECORDS IN THE SYSTEM:

The system provides control over expenditure of funds through the use of Federal Government purchase cards. System records include:

a. Personal information on charge card users, including names, home or business telephone numbers and addresses, Social Security Numbers, date of birth, employment information, or commercial and agency investigative reports showing debtors' asset, liabilities, income, expenses, bankruptcy petitions, history of wage garnishments, repossessed property, tax liens, legal judgments on debts owed, and financial delinquencies; and

b. Account processing and management information, including charge card transactions, contractor monthly reports showing charges to individual account numbers, account balances, and other data needed to authorize, account for, and pay authorized purchase card expenses.

AUTHORITY FOR MAINTENANCE OF THE SYSTEM:

41 U.S.C. 252a, 252b, 427, 428; E.O. 12931, and Section 639 of the Consolidated Appropriations Act, 2005 (Pub. L. 108-447).

PURPOSE:

To establish and maintain a system for operating, controlling, and managing the purchase card program involving commercial purchases by authorized Government employees.

ROUTINE USE OF THE SYSTEM RECORDS, INCLUDING CATEGORIES OF USERS AND THEIR PURPOSE FOR USING THE SYSTEM:

System information may be accessed and used by authorized GSA employees or contractors to conduct official duties associated with the management and operation of the purchase card program. Information from this system also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the GSA Office of Finance for debt collection purposes (see GSA/PPFM-7).

i. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

Information may be collected on paper or electronically and may be stored on paper or on electronic media, as appropriate.

RETRIEVABILITY:

Records are retrievable by a personal identifier or by other appropriate type of designation approved by GSA.

SAFEGUARDS:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

RETENTION AND DISPOSAL:

Disposition of records is according to the National Archives and Records Administration (NARA) guidelines, as set forth in the handbook, GSA Records Maintenance and Disposition System (CIO P 1820.1), and authorized GSA records schedules.

SYSTEM MANAGER AND ADDRESS:

Director, Financial Initiative Division (BCD), Office of Financial Policy and Operations, Office of the Chief Financial Officer, General Services Administration, 1800 F Street, NW., Washington, DC 20405.

NOTIFICATION PROCEDURE:

A Privacy Act Statement on the purchase card data collection form notifies individuals of the purpose and uses of the information they provide. Employees may obtain information about whether they are a part of this system of records from the system manager at the above address.

RECORD ACCESS PROCEDURES:

Requests from individuals for access to their records should be addressed to the system manager.

CONTESTING RECORD PROCEDURES:

GSA rules for access to systems of records, contesting the contents of systems of records, and appealing initial determinations are published at 41 CFR part 105-64.

RECORD SOURCE CATEGORIES:

Information is obtained from individuals submitting charge card applications, monthly contractor reports, purchase records, managers, other agencies, non-Federal sources such as private firms, and other agency systems containing information pertaining to the purchase card program.

[FR Doc. E8-8910 Filed 4-24-08; 8:45 am]

BILLING CODE 6820-34-P